DEPARTMENT OF HOUSING AND URBAN DEVELOPMENT

[Docket No. FR-5600-FA-04A; Docket No. FR-5600-FA-04B; Docket No. FR-5600-FA-07]

Announcement of Funding Awards for Office of Healthy Homes and Lead Hazard Control (OHHLHC) Grant Programs for Fiscal Year (FY) 2012; Correction of OHHLHC Announcement of Funding Awards for FY 2011 and 2010

AGENCY: Office of Healthy Homes and Lead Hazard Control, HUD.

ACTION: Announcement of funding awards.

SUMMARY: In accordance with Section 102(a)(4)(C) of the Department of Housing and Urban Development Reform Act of 1989, this announcement notifies the public of funding decisions made by the Department in competitions for funding under the Office of Healthy Homes and Lead Hazard Control (OHHLHC) Grant Program Notices of Funding Availability. This announcement contains the name and address of the award recipients and the amounts of awards under the Consolidated Appropriations Act, 2012, and prior-year appropriations. In addition this announcement notifies the public of a correction regarding the announcements of funding awards under the Department of Defense and Full-Year Continuing Appropriations Act, 2011, and a competition under the Omnibus Appropriations Act, 2010.

FOR FURTHER INFORMATION CONTACT: Matthew E. Ammon, Department of Housing and Urban Development, Office of Healthy Homes and Lead Hazard Control, Room 8236, 451 Seventh Street SW., Washington, DC 20410, telephone 202-402-4337. Hearing- and speech-impaired persons may access the number above via TTY by calling the toll free Federal Relay Service at 1-800-877-8339.

SUPPLEMENTARY INFORMATION:

A. Funding Awards for FY 2012

HUD announced the FY 2012 awards on September 19, 2011. These awards were the result of competitions posted on the Internet at Grants.gov on November 28, 2011 for Lead Based Paint Hazard Control (FR-5600-N-04); on November 28, 2011 for Lead Hazard Reduction Demonstration Programs (FR-5600-N-04); and on November 30, 2011 for Healthy Homes Technical Studies Programs (FR-5600-N-07). The purpose of the competitions was to award funding for grants and cooperative agreements for the Office of Healthy Homes and Lead Hazard Control Grant Programs.

Applications were scored and selected on the basis of selection criteria contained in these Notices. A total of $117,597,109 was awarded under the HUD appropriations act for FY 2012, namely, the Consolidated Appropriations Act, 2012, (Pub. L. 112-10, approved April 15, 2011) and prior year appropriations. In accordance with Section 102(a)(4)(C) of the Department of Housing and Urban Development Reform Act of 1989 (103 Stat. 1987; 42 U.S.C. 3545), the Department is publishing the names, addresses, and the amount of these awards as follows:

1. Lead Based Paint Hazard Control Grant Program

A total of $ $75,201,190 was awarded to 32 grantees for the Lead Based Paint Hazard Control Grant Program and an additional $5,329,093 was awarded to 30 out of the 32 grantees for the Healthy Homes Initiative was under the Consolidated Appropriations Act, 2012: Michigan Department of Community Health, P.O. Box 30195, 201 Townsend Street, Lansing, MI 48909-7695, $2,479,602; City of Long Beach, 2525 Grand Avenue, Long Beach, CA 90815-1765, $2,479,996; Naugatuck Valley Health District, 98 Bank Street, Seymour, CT 06483-2856, $2,480,000; City of Tucson, 310 N. Commerce Park Loop, Tucson, AZ 85745-2700, $2,480,000; Pennsylvania Department of Health, Health and Welfare Building, 7th Floor, East Wing, 625 Forster Street, Harrisburg, PA 171200-0701, $2,480,000; City of Marshalltown, 24 North Center Street, Marshalltown, IA 50158-9916, $2,480,000; Kansas City Missouri Health Department, 2400 Troost Avenue, Suite 3100, Kansas City, MO 64108-2666, $2,480,000; City of Richmond, 450 Civic Center Plaza, Richmond, CA 94804-0046, $2,480,000; Cuyahoga County Board, 5550 Venture Drive, Cuyahoga, OH $2,480,000; County of Lawrence, 430 Court Street, New Castle, PA, 16101-3503, $2,480,000; Washington State Department of Commerce, 1011 Plum Street SE., Olympia, WA 98504-2525, $2,480,000; City of Fort Wayne, 200 East Berry Street, Fort Wayne, IN 46802-2731, $2,478,240; City of Worcester, 455 Main Street, Worcester, MA 01608-1821, $2,480,000; City of Norwich, 23 Union Street, Norwich, CT 06360-4416, $2,107,857 City of Springfield, 76 East High Street, Springfield, OH 45502-1214, $2,480,000; Maine State Housing Authority, 353 Water Street, Augusta, ME 04330-4665, $2,409,093; City of New Haven, 54 Meadow Street 9th Floor, New Haven, CT 06519, $2,480,000; Onondaga County, 1100 Civic Center, Syracuse, NY 13202-2908, $2,480,000; San Diego Housing Commission, 1122 Broadway, Suite 300, San Diego, CA 92101-5612, $2,480,000; Charter County of Wayne, 33030 Van Born Road, Wayne, MI 48184, $2,480,000; Kenosha County, 8600 Sheridan Road, Suite 600, Kenosha WI 53143-6515, $2,480,000; City of Minneapolis, 250 South 4th Street, Room 414, Minneapolis, MN 55415-1316, $2,480,000; City of Grand Rapids 300 Monroe Avenue NW., Grand Rapids, MI 49503-2206, $2,480,000; New Hampshire Housing Finance Authority, 32 Constitution Drive, Bedford, NH 03110-6092, $2,480,000; City of Charlotte, 600 East Trade Street, Charlotte, NC 28202, $2,479,414; Housing Authority of South Bend, 501 Alonzo Watson Drive, South Bend, IN 46601-3730, $2,480,000; County of Elkhart, 4230 Elkhart Road, Goshen, IN 46526, $2,480,000; City of Sioux City, 405 6th Street, Sioux City, IA 51102, $2,480,000; Lucas County Regional Health District, 635 North Erie Street, Toledo, OH 43604-5317, $2,480,000; City of Nashua, 229 Main Street, Nashua, NH 03060-2938, $2,480,000; Madison County, 130 Hillsboro Avenue, Edwardsville, IL 62025-1636, $1,976,081. The two Lead Based Paint Hazard Control grants that did not receive the Healthy Homes Initiative Supplement were the City of Kankakee, 850 N. Hobbie Avenue, Kankakee, IL 60901, $2,300,000; and California Department of Community Services and Development, 2389 Gateway Oaks Drive, Suite 100, Sacramento, CA 95833-4246, $2,300,000.

2. Lead Hazard Reduction Demonstration Grant Program

A total of $34,011,932 was awarded to 12 grantees for the Lead Hazard Reduction Demonstration Grant Program under the Consolidated Appropriations Act, 2012: New York City Department of Housing Preservation and Development, 100 Gold Street, New York, NY 10038, $3,000,000; City of Spokane, 808 West Spokane Falls Boulevard, Spokane, WA 99201; $2,400,000; City of Syracuse, 201 E. Washington Street, Syracuse, NY 13202-1410, $3,000,000; City of Akron, 166 South High Street, Akron, OH 44308-1828, $3,000,000; City of Los Angeles, 1200 W. 7th Street, 9th Floor, Los Angeles, CA 90017-2349, $3,000,000; District of Columbia, 1800 Martin Luther King Jr. Avenue SE., Suite 300, Washington, DC 20020, $2,998,810; City of Milwaukee Community Relations Social Development Commission, 4041 North Richards Street, Milwaukee, WI 53212-1232, $3,000,000; City of Cincinnati, 801 Plum Street, Cincinnati, OH 45202, $3,000,000; City of Fort Worth, 1000 Throckmorton Street, Fort Worth, TX 76102-6312, $3,000,000; City of Rochester, 30 Church Street, Room 005A, Rochester, NY 14614-1290, $3,000,000; Baltimore City Department of Housing and Community Development, 417 E. Fayette Street, Room 1114, Baltimore, MD 21202-0328, $2,900,000; Vermont Housing and Conservative Board, 58 East State Street, Montpelier, VT 05602-3044, $1,713,122.

3. Healthy Homes Technical Studies Grant Program

A total of $3,054,894 was awarded to 5 grantees for Healthy Homes Technical Studies Grant Program under the Consolidated Appropriations Act, 2012: Health Research, Inc., New York State Department of Health, Riverview Center, 150 Broadway, Suite 560, Menands, NY 12204-2719, $500,000; Silent Spring Institute, 29 Crafts Street, Newton, MA 02458-1283, $699,793; Wayne State University Center for Urban Studies, 5057 Woodward Avenue, 13th Floor, Suite 13202, Detroit, MI 48201-4050, $692,221; Appalachian State University, 287 Rivers Street, Suite 232, Boone, NC 28608, $696,810; Boston University, Trustees of Boston University, 85 East Newton Street, M-921, Boston, MA 02118-2340, $466,070.

B. Correction to FY 2011 Announcement of Funding Awards

A grant of $2,500,000 was awarded for the FY2011 Lead Hazard Reduction Demonstration Grant Program under the Department of Defense and Full-Year Continuing Appropriations Act, 2011 (Pub. L. 112-10). There was an omission in the OHHLHC's FY 2011 Announcement of Funding Awards (77 Federal Register 19306-07, March 30, 2012) of the award for the City and County of San Francisco, Mayor Office of Housing, 1 South Van Ness Avenue, 5th Floor, San Francisco, CA 94103, which is corrected here.

C. Correction to FY 2010 Announcement of Funding Awards

A grant of $425,000 was awarded for the FY 2010 Asthma Interventions in Public and Assisted Multifamily Housing (AIPAMH) Grant Program under the Omnibus Appropriations Act, 2010 (Pub. L. 111-117). (See, the OHHLHC's FY 2010 Announcement of Funding Awards at (77 Federal Register 19305-06, March 30, 2012.) To correct an oversight in the application review process, the 2010 AIPAMH application for the Eastern Virginia Medical School (EVMS), 358 Mowbray Arch, P.O. Box 1980, Norfolk, VA 23501-1980, was rescored, which placed it in the funding range. The grant award to EVMS was for the same amount it would have received had it been funded in FY 2010, but it used funds under the Department of Defense and Full-Year Continuing Appropriations Act, 2011.

Dated: April 26, 2013.
Matthew E. Ammon,
Deputy Director, Office of Healthy Homes and Lead Hazard Control.

[FR Doc. 2013-10412 Filed 5-1-13; 8:45 am]

BILLING CODE 4210-67-P